ENVIRONMENTAL PROTECTION AGENCY

40 CFR Part 52

[EPA-R03-OAR-2009-0712; FRL-9134-9]

Approval and Promulgation of Air Quality Implementation Plans; Delaware; Reasonable Further Progress Plan, 2002 Base Year Inventory, Reasonably Available Control Measures, Contingency Measures, and Transportation Conformity Budgets for the Delaware Portion of the Philadelphia 1997 8-Hour Ozone Moderate Nonattainment Area

AGENCY: Environmental Protection Agency (EPA).

ACTION: Final rule.

SUMMARY: EPA is approving a revision to the Delaware State Implementation Plan (SIP) to meet the reasonable further progress (RFP) requirements of the Clean Air Act (CAA) for the Delaware portion of the Philadelphia 1997 8-hour ozone moderate nonattainment area. EPA is also approving the RFP plan's motor vehicle emissions budgets (MVEBs), the 2002 base year emissions inventory, contingency measures, and the reasonably available control measure (RACM) analysis associated with this revision. EPA is approving the SIP revision because it satisfies the requirements for the 1997 8-hour ozone national ambient air quality standard (NAAQS) nonattainment areas classified as moderate and demonstrates further progress in reducing ozone precursors. EPA is approving the SIP revision pursuant the CAA and EPA's regulations.

DATES: Effective Date: This final rule is effective on May 10, 2010.

ADDRESSES: EPA has established a docket for this action under Docket ID Number EPA-R03-OAR-2009-0712. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Delaware Department of Natural Resources & Environmental Control, 89 Kings Highway, P.O. Box 1401, Dover, Delaware 19903.

FOR FURTHER INFORMATION CONTACT: Rose Quinto, (215) 814-2182, or by e-mail at quinto.rose@epa.gov.

SUPPLEMENTARY INFORMATION:

I. Background

On January 15, 2010 (75 FR 2452), EPA published a notice of proposed rulemaking (NPR) for the State of Delaware. The NPR proposed approval of the 15 percent RFP plan, the RFP plan's 2008 MVEBs, the 2002 base year emissions inventory, contingency measures, and the RACM analysis for the Delaware portion of the Philadelphia 1997 8-hour ozone moderate nonattainment area. The formal SIP revision was submitted by the Delaware Department of Natural Resources and Environmental Control on June 13, 2007.

II. Summary of SIP Revision

The SIP revision addresses emissions inventory, RACM, contingency measures and the RFP requirements for the 1997 8-hour ozone NAAQS for the Delaware portion of the Philadelphia moderate nonattainment area. The SIP revision also establishes MVEBs for 2008. Other requirements of the SIP revision and the rationale for EPA's proposed action are explained in the NPR and will not be restated here. No public comments were received on the NPR.

III. Final Action

EPA is approving the Delaware SIP revision that meets the RFP requirements of the CAA for the Delaware portion of the Philadelphia 1997 8-hour ozone moderate nonattainment area. EPA is also approving the RFP plan's MVEBs, the 2002 base year emissions inventory, contingency measures, and RACM analysis associated with the SIP revision. The SIP revision satisfies the requirements for the 1997 8-hour ozone NAAQS nonattainment areas classified as moderate and demonstrates further progress in reducing ozone precursors.

IV. Statutory and Executive Order Reviews

A. General Requirements

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by June 7, 2010. Filing a petition for reconsideration by the Administrator of this final rule does not affect the finality of this action for the purposes of judicial review nor does it extend the time within which a petition for judicial review may be filed, and shall not postpone the effectiveness of such rule or action. This action pertaining to the Delaware's RFP Plan, 2002 base year emissions inventory, contingency measures, RACM analysis, and transportation conformity budgets, may not be challenged later in proceedings to enforce its requirements. (See section 307(b)(2).)

List of Subjects in 40 CFR Part 52

Environmental protection, Air pollution control, Nitrogen dioxide, Ozone, Reporting and recordkeeping requirements, Volatile organic compounds.

Dated: March 25, 2010.
W.C. Early,
Acting Regional Administrator, EPA Region III.

40 CFR part 52 is amended as follows:

PART 52—[AMENDED]

1. The authority citation for part 52 continues to read as follows:

Authority: 42 U.S.C. 7401 et seq.

Subpart I—Delaware

2. In § 52.420, the table in paragraph (e) is amended by adding at the end of the table, the entries for Reasonable Further Progress Plan (RFP), Reasonably Available Control Measures and Contingency Measures; 2002 Base Year Inventory for VOC, NOX and CO; and 2008 RFP Transportation Conformity Budgets for the Delaware Portion of the Philadelphia 1997 8-hour Ozone Moderate Nonattainment Area. The amendments read as follows:

§ 52.420 Identification of plan.

* * * * *

(e) * * *

Name of non-regulatory SIP revision | Applicable geographic area | State submittal date | EPA approval date | Additional explanation
* * * * * * *
Reasonable Further Progress Plan (RFP), Reasonably Available Control Measures, and Contingency Measures | Delaware portion of the Philadelphia 1997 8-hour ozone moderate nonattainment area | 6/13/07 | 4/8/10 [Insert page number where the document begins] |
2002 Base Year Inventory for VOC, NOX, and CO | Delaware portion of the Philadelphia 1997 8-hour ozone moderate nonattainment area | 6/13/07 | 4/8/10 [Insert page number where the document begins] |
2008 RFP Transportation Conformity Budgets | Delaware portion of the Philadelphia 1997 8-hour ozone moderate nonattainment area | 6/13/07 | 4/8/10 [Insert page number where the document begins] |

3. Section 52.423 is amended by revising the section heading and by adding paragraph (b) to read as follows:

§ 52.423 Base Year Emissions Inventory.

* * * * *

(b) EPA approves as a revision to the Delaware State Implementation Plan the 2002 base year emissions inventories for the Delaware portion of the Philadelphia 1997 8-hour ozone moderate nonattainment area submitted by the Secretary of the Department of Natural Resources and Environmental Control on June 13, 2007. This submittal consists of the 2002 base year point, area, non-road mobile, and on-road mobile source inventories in area for the following pollutants: Volatile organic compounds (VOC), carbon monoxide (CO) and nitrogen oxides (NOX).

4. Section 52.426 is amended by adding paragraphs (g) and (h) to read as follows:

§ 52.426 Control strategy plans for attainment and rate-of-progress: Ozone.

* * * * *

(g) EPA approves revisions to the Delaware State Implementation Plan consisting of the 2008 reasonable further progress (RFP) plan, reasonably available control measures, and contingency measures for the Delaware portion of the Philadelphia 1997 8-hour ozone moderate nonattainment area submitted by the Secretary of the Department of Natural Resources and Environmental Control on June 13, 2007.

(h) EPA approves the following 2008 RFP motor vehicle emissions budgets (MVEBs) for the Delaware portion of the Philadelphia 1997 8-hour ozone moderate nonattainment area submitted by the Secretary of the Department of Natural Resources and Environmental Control on June 13, 2007:

Transportation Conformity Emissions Budgets for the Delaware Portion of the Philadelphia Area for the 2008 Rate of Progress Plan
County | 2008 Emissions (tons per day): VOC | 2008 Emissions (tons per day): NOX | Effective date of adequacy determination or SIP approval
Kent | 4.14 | 9.68 | January 5, 2009, (73 FR 77682), published December 19, 2008.
New Castle | 10.61 | 21.35
Sussex | 7.09 | 12.86
State Total | 21.84 | 43.89

[FR Doc. 2010-7878 Filed 4-7-10; 8:45 am]

BILLING CODE 6560-50-P